DEPARTMENT OF TRANSPORTATION

Surface Transportation Board

[STB Finance Docket No. 34542]

Fulton County Railway, LLC—Lease and Operation Exemption—CSX Transportation, Inc.

Fulton County Railway, LLC (FCR), a noncarrier, has filed a verified notice of exemption under 49 CFR 1150.31 to lease from CSX Transportation, Inc. (CSXT), and operate approximately 55 miles of rail lines located in Atlanta, GA. The rail lines extend from: (1) Milepost ANO 855.06, V.S. 3+30, at Fulco Junction, westerly to milepost ANO 858.72, V.S. 196+31; (2) milepost ANO 858.72, V.S. 196+31 northeasterly to milepost ANO 860.75, V.S. 304+70, at the northeast end of the line; and (3) V.S. 196+31 = V.S. 0+00 southwesterly to V.S. 208+94, at the southwest end of the line, through the Fulco Industrial Park, including the track in the Fulco Yard, and the appurtenant sidings, and industrial tracks.

This transaction is related to STB Finance Docket No. 34543, Patrick D. Broe and OmniTRAX, Inc.—Continuance in Control Exemption—Fulton County Railway, LLC., wherein Patrick D. Broe and OmniTRAX, Inc., have filed a notice of exemption to continue in control of FCR upon its becoming a Class III rail carrier.

FCR certifies that its projected revenues as a result of this transaction will not result in FCR's becoming a Class II or Class I rail carrier, and further certifies that its projected annual revenues will not exceed $5 million.

The transaction is expected to be consummated on or shortly after October 15, 2004.

If the notice contains false or misleading information, the exemption is void ab initio. Petitions to revoke the exemption under 49 U.S.C. 10502(d) may be filed at any time. The filing of a petition to revoke will not automatically stay the transaction.

An original and 10 copies of all pleadings, referring to STB Finance Docket No. 34542, must be filed with the Surface Transportation Board, 1925 K Street, NW., Washington, DC 20423-0001. In addition, a copy of each pleading must be served on Karl Morell, Of Counsel, Ball Janik, LLP, 1455 F Street, NW., Suite 225, Washington, DC 20005.

Board decisions and notices are available on our Web site at www.stb.dot.gov.

Decided: October 7, 2004.
By the Board, David M. Konschnik, Director, Office of Proceedings.
Vernon A. Williams,
Secretary.

[FR Doc. 04-23048 Filed 10-13-04; 8:45 am]

BILLING CODE 4915-01-P